DEPARTMENT OF ENERGY

Federal Energy Regulatory Commission

[Project No. 9403-008]

New Hampshire Hydro Associates; Rivermill Hydroelectric, Inc.; Notice of Transfer of Exemption

1. By letter filed March 10, 2015, New Hampshire Hydro Associates informed the Commission that the exemption from licensing for the HDI Mascoma Dam Project, FERC No. 9403, originally issued September 21, 1988,¹ has been transferred to Rivermill Hydroelectric, Inc. The project is located on the Mascoma River in Grafton County, New Hampshire. The transfer of an exemption does not require Commission approval.

¹ 44 FERC ¶ 62,273, Order Granting Exemption from Licensing (5 MW or Less) (1988).

2. Rivermill Hydroelectric, Inc. is now the exemptee of the HDI Mascoma Dam Project, FERC No. 9403. All correspondence should be forwarded to: Michael Hansen, Rivermill Hydroelectric, Inc., 44 Deer Ridge Drive, Barrington, NH 03825.

Dated: March 16, 2015.
Kimberly D. Bose,
Secretary.

[FR Doc. 2015-06531 Filed 3-20-15; 8:45 am]

BILLING CODE 6717-01-P